DEPARTMENT OF HEALTH AND HUMAN SERVICES

National Institutes of Health

Center for Scientific Review; Amended Notice of Meeting

Notice is hereby given of a change in the meeting of the Center for Scientific Review Special Emphasis Panel, March 10, 2004, 9:30 a.m. to March 10, 2004, 10:30 a.m., National Institutes of Health, 6701 Rockledge Drive, Bethesda, MD 20892 which was published in the Federal Register on March 8, 2004, 69 FR 10727-10730.

The meeting will be held April 2, 2004. The meeting time and location remain the same. The meeting is closed to the public.

Dated: March 29, 2004.
LaVerne Y. Stringfield,
Director, Office of Federal Advisory Committee Policy.

[FR Doc. 04-7502 Filed 4-1-04; 8:45 am]

BILLING CODE 4140-01-M